LEGAL SERVICES CORPORATION

Sunshine Act Meetings; Notice

DATE AND TIME: The Legal Services Corporation Board of Directors and its committees will meet on January 28-29, 2011. On Friday, January 28, the first meeting will commence at 8:45 a.m., Eastern Time. On Saturday, January 29, the first meeting will commence at 8:30 a.m., Eastern Time. On each of these two days, each meeting other than the first meeting of the day will commence promptly upon adjournment of the immediately preceding meeting. Please note that on Friday, January 28th, meetings of the Audit Committee and Development Committee will run concurrently after the meeting of the Promotion & Provision for the Delivery of Legal Services Committee; the concurrent meetings will be followed by the Finance Committee meeting.

LOCATION: The Legal Services Corporation, F. William McCalpin Conference Center, 3rd Floor, 3333 K Street, NW., Washington, DC 20007.

PUBLIC OBSERVATION: Unless otherwise noticed, all meetings of the LSC Board of Directors are open to public observation. Members of the public that are unable to attend but wish to listen to a public proceeding may do so by following the telephone call-in directions given below. You are asked to keep your telephone muted to eliminate background noises. From time to time the presiding Chair may solicit comments from the public.

Call in Directions for Open Sessions

• Call toll-free number: 1-(866) 451-4981;

• When prompted, enter the following numeric pass code: 5907707348 (or 2755431953 to access the concurrent Development Committee meeting on January 28, 2010);

• When connected to the call, please “MUTE” your telephone immediately.

Meeting Schedule
| Time ¹
Friday, January 28, 2011:
1. Promotion & Provision for the Delivery of Legal Services Committee (“Promotion & Provision Committee”) | 8:45 a.m.
2. Operations & Regulations Committee
3. Audit Committee | 11 a.m.
4. Development Committee | 11 a.m.
5. Finance Committee
6. Governance & Performance Review Committee
Saturday, January 29, 2011:
1. Board of Directors | 8:30 a.m.

STATUS OF MEETING: Open, except as noted below.

• Board of Directors—Open, except that a portion of the meeting of the Board of Directors may be closed to the public pursuant to a vote of the Board of Directors to consider and perhaps act on the General Counsel's report on potential and pending litigation involving LSC, and to hear briefings from management and LSC's Inspector General.²

¹ Please note that all times in this notice are in the Eastern Time zone.

² Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

• Audit Committee—Open, except that a portion of the meeting of the Audit Committee may be closed to the public pursuant to a vote of the Board of Directors so the Committee may be briefed on a matter related to the classification of Corporation consultants.

A verbatim written transcript will be made of the closed session of the Board meeting. However, the transcript of any portions of the closed session falling within the relevant provisions of the Government in the Sunshine Act, 5 U.S.C. 552b(c)(2) and (9)(B), and the corresponding provisions of the Legal Services Corporation's implementing regulation, 45 CFR 1622.5(a) and (g), will not be available for public inspection. A copy of the General Counsel's Certification that in his opinion the closing is authorized by law will be available upon request.

MATTERS TO BE CONSIDERED:

Friday, January 28, 2011

Promotion and Provision for the Delivery of Legal Services Committee

Agenda

Open Session

1. Approval of Agenda.

2. Approval of Minutes of the Committee's meeting of October 18, 2010.

3. Consider and act on Committee Charter.

4. Consider and act on client board member support initiatives.

5. Staff report on LSC's Initiatives Regarding Disaster Response.

6. Public comment.

7. Consider and act on other business.

8. Consider and act on adjournment of meeting.

Operations & Regulations Committee

Agenda

Open Session

1. Approval of agenda.

2. Approval of minutes of the Committee's meetings of:

a. October 19, 2010.

b. December 15, 2010.

3. Consider and act on strategic planning activities.

a. Presentation by Mattie Cohan, Senior Assistant General Counsel.

4. Staff report on Development of a Regulatory Agenda.

a. Presentation by Mattie Cohan.

5. Consider and act on Draft Notice of Potential Rulemaking on 45 CFR Part 1609 to clarify scope of fee-generating case restrictions to non-LSC fund supported cases.

a. Presentation by Mattie Cohan.

b. Comments by Laurie Tarantowicz, Assistant Inspector General and Legal Counsel.

c. Public comment.

6. Staff report on Potential Rulemakings as a Result of TIG Audit Response.

a. Presentation by Mattie Cohan.

7. Public comment.

8. Consider and act on other business.

9. Consider and act on adjournment of meeting.

Audit Committee

Agenda

Open Session

1. Approval of agenda.

2. Approval of Minutes of the Committee's Open Session meeting of October 19, 2010.

3. Presentation of the Fiscal Year (FY) 2010 Annual Financial Audit.

• Ronald “Dutch” Merryman, Assistant Inspector General for Audits.

• Uzma Malik-Dorman, Thompson, Cobb, Bazilio & Associates.

4. Review of LSC's IRS Form 990 for FY 2010.

• David Richardson, Treasurer & Comptroller.

5. Report on LSC's 403(b) plan performance.

• Alice Dickerson, Director of Human Resources.

6. Inspector General briefing.

• Jeffrey Schanz, Inspector General.

7. Report on the accuracy of grantee data.

• John Meyer, Director, Office of Information Management.

8. Public comment.

9. Consider and act on other business.

Closed Session

10. Briefing on classification of LSC consultants.

• Mattie Cohan, Senior Assistant General Counsel.

11. Consider and act on adjournment of meeting.

Development Committee

Agenda

Open Session

1. Approval of agenda.

2. Approval of minutes of the Committee's open session telephonic meeting of December 17, 2010.

3. Consider and act on continued discussion of Committee's objectives for the year.

4. Consider and act on other business.

5. Public comment.

6. Consider and act on adjournment of meeting.

Finance Committee

Agenda

Open Session

1. Approval of agenda.

2. Approval of Minutes of the Committee's Open Session meeting of October 19, 2010.

3. Consider and act on a Revised Temporary Operating Budget for Fiscal Year (FY) 2011, Resolution 2011-0XX.

• Presentation by David Richardson, Treasurer & Comptroller.

4. Presentation on LSC's Financial Reports for the first two months of FY 2011.

• Presentation by David Richardson.

5. Staff report on the FY 2011 appropriations.

• Presentation by John Constance, Director, Office of Government Relations & Public Affairs.

6. Staff report on submission of FY 2012 budget request.

• Presentation by John Constance.

7. Public comment.

8. Consider and act on other business.

9. Consider and act on adjournment of meeting.

Governance and Performance Review Committee

Agenda

Open Session

1. Approval of agenda.

2. Approval of minutes of the Committee's meeting of October 18, 2010.

3. Committee Chairman's report on:

a. Results of Board and Committee Self Evaluation process for 2010.

b. Consider and act on report to full Board on Board and Committee Self Evaluation results.

4. Staff report on progress on implementation of GAO recommendations.

5. Consider and act on a proposal to amend the Governance and Performance Review Charter to include all officers of the corporation under the evaluation jurisdiction of the Committee.

6. Consider and act on nature and timing of IG Evaluation.

7. IG Evaluation discussion for 2010.

8. Consider and act on other business.

9. Public comment.

10. Consider and act on motion to adjourn meeting.

Saturday, January 29, 2011

Board of Directors

Agenda

Open Session

1. Pledge of Allegiance.

2. Approval of agenda.

3. Approval of Minutes of the Board's Open Session Telephonic meeting of October 19, 2010.

4. Approval of Minutes of the Board's Open Session Telephonic meeting of November 23, 2010.

5. Approval of Minutes of the Board's Open Session Telephonic meeting of January 3, 2011.

6. Consider and act on nominations for the Chairman of the Board of Directors.

7. Consider and act on nominations for the Vice Chairman of the Board of Directors.

8. Consider and act on delegation to the Chairman of standing authority to make committee assignments and appoint Directors and non-voting Non-Directors to committees.

9. Consider and act on Resolution 2011-XXX thanking Victor M. Fortuno for his service as LSC President.

10. Introduction of new LSC President James Sandman.

11. Consider and act on Resolutions 2011-XXXa-e thanking Advisory Members for their participation on the 2010 Search Committee for LSC President.

12. Consider and act on Resolution 2011-XXX dissolving the 2010 Search Committee for LSC President.

13. Consider and act on Resolution 2011-XXX Commemorating the 100 Year Anniversary of the National Legal Aid & Defender Association and its contributions to the legal services community.

14. Chairman's Report.

15. Members' Reports.

16. President's Report.

17. Inspector General's Report.

18. Presentation by members of the African American Project Directors Association.

• Lillian Johnson, Community Legal Services of AZ.

• Donald Isaac, Florida Rural Legal Services.

• Wilhelm Joseph, Legal Aid Bureau of Maryland.

• Ben Obregon, Client Board Representative of Legal Action of Wisconsin.

19. Briefing on how the diminished availability of IOLTA funds has affected the delivery of civil legal services.

• Betty Balli Torres, Executive Director, National Association of IOLTA Programs & Chair, Texas Access to Justice Foundation.

20. Consider and act on the report of the Promotion & Provision for the Delivery of Legal Services Committee.

21. Consider and act on the report of the Finance Committee.

22. Consider and act on the report of the Audit Committee.

23. Consider and act on the report of the Operations & Regulations Committee.

24. Consider and act on the report of the Governance & Performance Review Committee.

25. Consider and act on the report of the Development Committee.

26. Consider and act on the report of the Special Taskforce on Fiscal Oversight.

27. Public comment.

28. Consider and act on other business.

29. Consider and act on whether to authorize an executive session of the Board to address items listed below under Closed Session.

Closed Session

30. Approval of Minutes of the Board's Closed Session Telephonic meeting of October 19, 2010.

31. Approval of Minutes of the Board's Closed Session Telephonic meeting of November 5, 2010.

32. Approval of Minutes of the Board's Closed Session Telephonic meeting of November 23, 2010.

33. Consider and act on General Counsel's report on potential and pending litigation involving LSC.

34. Briefing by Management.

35. Briefing by the Inspector General.

36. Consider and act on motion to adjourn meeting.

CONTACT PERSON FOR INFORMATION: Katherine Ward, Executive Assistant to the Vice President & General Counsel, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward, at (202) 295-1500 or FR_NOTICE_QUESTIONS@lsc.gov.

Dated: January 20, 2011.
Patricia D. Batie,
Corporate Secretary.

[FR Doc. 2011-1563 Filed 1-21-11; 11:15 am]

BILLING CODE 7050-01-P